DEPARTMENT OF COMMERCE

International Trade Administration, North American Free-Trade Agreement (NAFTA), Article 1904 Binational Panel Reviews

AGENCY: NAFTA Secretariat, United States Section, International Trade Administration, Department of Commerce.

ACTION: Notice of decision of panel.

SUMMARY: On February 8, 2006, the binational panel issued its decision in the review of the final determination made by the International Trade Administration, respecting Oil Country Tubular Goods from Mexico Final Results of Sunset Review of Antidumping Duty Order, Secretariat File No. USA-MEX-2001-1904-03. The binational panel remanded the redetermination on remand to the International Trade Administration. Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of the final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The Panel concluded and ordered the Department as follows:

The Department is directed to determine whether the decrease in the magnitude of TAMSA's foreign currency denominated debt in the sunset review period outweighs the “likelihood” presumption that results from the decrease in TAMSA's post-order exports.

If the Department determines that the lower level of TAMSA's foreign currency denominated debt does not outweigh the “likelihood” presumption that results from the decrease in TAMSA's post-order exports, the Department is directed to explain the reasons leading to its determination.

If the Department determines that the lower level of TAMSA's foreign currency denominated debt in fact outweighs the “likelihood” presumption that results from the decrease in TAMSA's post-order exports, the Department is directed to enter a finding of no likelihood of continuation or recurrence of dumping.

The Department is further directed to issue its Final Redetermination on Remand within twenty days from the date of this Panel Decision.

The Department was directed to report the results of its remand decision within 20 days of the date of the opinion, or not later than February 28, 2006.

Dated: February 8, 2006.
Caratina L. Alston,
United States Secretary, NAFTA Secretariat.

[FR Doc. E6-2073 Filed 2-13-06; 8:45 am]

BILLING CODE 3510-GT-P